DEPARTMENT OF ENERGY

Federal Energy Regulatory Commission

Combined Notice of Filings #1

Take notice that the Commission received the following electric rate filings:

Docket Numbers: ER23-483-002.

Applicants: PJM Interconnection, L.L.C.

Description: Tariff Amendment: Amendment of Amended ISA, SA No. 5071; Queue No. AB1-132 in Docket No. ER23-483 to be effective 1/22/2023.

Filed Date: 3/3/23.

Accession Number: 20230303-5095.

Comment Date: 5 p.m. ET 3/24/23.

Docket Numbers: ER23-784-001.

Applicants: PJM Interconnection, L.L.C.

Description: Tariff Amendment: Amendment to ISA, Service Agreement No. 4225; Queue AF2-103 in ER23-784 to be effective 3/10/2023.

Filed Date: 3/3/23.

Accession Number: 20230303-5106.

Comment Date: 5 p.m. ET 3/24/23.

Docket Numbers: ER23-1228-000.

Applicants: Entergy Services, LLC, Entergy Arkansas, LLC.

Description: § 205(d) Rate Filing: Entergy Services, LLC submits tariff filing per 35.13(a)(2)(iii: MSS-4 Replacement Tariff to be effective 5/1/2023.

Filed Date: 3/3/23.

Accession Number: 20230303-5001.

Comment Date: 5 p.m. ET 3/24/23.

Docket Numbers: ER23-1229-000.

Applicants: Southwest Power Pool, Inc.

Description: § 205(d) Rate Filing: 3923R2 Seven Cowboy Wind Project GIA to be effective 2/28/2023.

Filed Date: 3/3/23.

Accession Number: 20230303-5005.

Comment Date: 5 p.m. ET 3/24/23.

Docket Numbers: ER23-1230-000.

Applicants: Mid-Atlantic Interstate Transmission, LLC, PJM Interconnection, L.L.C.

Description: § 205(d) Rate Filing: Mid-Atlantic Interstate Transmission, LLC submits tariff filing per 35.13(a)(2)(iii: MAIT submits one Engineering and Construction Agreement, SA No. 6634 to be effective 5/3/2023.

Filed Date: 3/3/23.

Accession Number: 20230303-5030.

Comment Date: 5 p.m. ET 3/24/23.

Docket Numbers: ER23-1231-000.

Applicants: ITC Midwest LLC, Interstate Power and Light Company.

Description: § 205(d) Rate Filing: ITC Midwest LLC submits tariff filing per 35.13(a)(2)(iii: Update to O&T Agreement Exhibits and Appendices (2023) to be effective 5/4/2023.

Filed Date: 3/3/23.

Accession Number: 20230303-5041.

Comment Date: 5 p.m. ET 3/24/23.

Docket Numbers: ER23-1232-000.

Applicants: PJM Interconnection, L.L.C.

Description: § 205(d) Rate Filing: Amendment to ISA, Service Agreement No. 3464; Non-Queue NQ75 to be effective 5/2/2023.

Filed Date: 3/3/23.

Accession Number: 20230303-5063.

Comment Date: 5 p.m. ET 3/24/23.

Docket Numbers: ER23-1233-000.

Applicants: ITC Midwest LLC.

Description: § 205(d) Rate Filing: Concurrence IPL Amended Exhibits and Attachments (2023) to be effective 5/4/2023.

Filed Date: 3/3/23.

Accession Number: 20230303-5065.

Comment Date: 5 p.m. ET 3/24/23.

Docket Numbers: ER23-1234-000.

Applicants: PJM Interconnection, L.L.C.

Description: § 205(d) Rate Filing: Original WMPA, Service Agreement No. 6800; Queue No. AF2-325 to be effective 2/1/2023.

Filed Date: 3/3/23.

Accession Number: 20230303-5114.

Comment Date: 5 p.m. ET 3/24/23.

Docket Numbers: ER23-1235-000.

Applicants: Clearwater Energy Resources LLC.

Description: § 205(d) Rate Filing: Clearwater Energy Resources LLC-Shared Interconnection Rights Agreement to be effective 12/22/2022.

Filed Date: 3/3/23.

Accession Number: 20230303-5119.

Comment Date: 5 p.m. ET 3/24/23.

Docket Numbers: ER23-1236-000.

Applicants: SR McNeal, LLC.

Description: Baseline eTariff Filing: Market-Based Rate Application to be effective 3/4/2023.

Filed Date: 3/3/23.

Accession Number: 20230303-5122.

Comment Date: 5 p.m. ET 3/24/23.

Docket Numbers: ER23-1237-000.

Applicants: SR Snipesville III, LLC.

Description: Baseline eTariff Filing: Market-Based Rate Application to be effective 3/4/2023.

Filed Date: 3/3/23.

Accession Number: 20230303-5127.

Comment Date: 5 p.m. ET 3/24/23.

Docket Numbers: ER23-1238-000.

Applicants: ORNI 36 LLC.

Description: Baseline eTariff Filing: Petition for Approval of Initial Market-Based Rate Tariff to be effective 3/4/2023.

Filed Date: 3/3/23.

Accession Number: 20230303-5153.

Comment Date: 5 p.m. ET 3/24/23.

Docket Numbers: ER23-1239-000.

Applicants: USG Nevada LLC.

Description: Baseline eTariff Filing: Petition for Approval of Initial Market-Based Rate Tariff to be effective 3/4/2023.

Filed Date: 3/3/23.

Accession Number: 20230303-5155.

Comment Date: 5 p.m. ET 3/24/23.

Docket Numbers: ER23-1240-000.

Applicants: PJM Interconnection, L.L.C.

Description: § 205(d) Rate Filing: Amendment to ISA, SA No. 5680; Queue No. AC1-120/AC1-121 (amend) to be effective 5/3/2023.

Filed Date: 3/3/23.

Accession Number: 20230303-5173.

Comment Date: 5 p.m. ET 3/24/23.

Docket Numbers: ER23-1241-000.

Applicants: IP Oberon, LLC.

Description: Baseline eTariff Filing: Application for Market Based Rate Authority to be effective 5/3/2023.

Filed Date: 3/3/23.

Accession Number: 20230303-5186.

Comment Date: 5 p.m. ET 3/24/23.

Docket Numbers: ER23-1242-000.

Applicants: Midcontinent Independent System Operator, Inc.

Description: § 205(d) Rate Filing: 2023-03-03_SA 2838 METC-AEP IA Certificate of Concurrence to be effective 12/21/2019.

Filed Date: 3/3/23.

Accession Number: 20230303-5188.

Comment Date: 5 p.m. ET 3/24/23.

Docket Numbers: ER23-1243-000.

Applicants: Public Service Company of Colorado.

Description: Tariff Amendment: 2023-3-3 PSCoES PLGIA 658-PSCo NOC to be effective 2/8/2023.

Filed Date: 3/3/23.

Accession Number: 20230303-5193.

Comment Date: 5 p.m. ET 3/24/23.

Docket Numbers: ER23-1244-000.

Applicants: Public Service Company of Colorado.

Description: Tariff Amendment: 2023-3-3 PSCoES PLGIA 657-PSCo NOC to be effective 2/8/2023.

Filed Date: 3/3/23.

Accession Number: 20230303-5200.

Comment Date: 5 p.m. ET 3/24/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 3, 2023.
Debbie-Anne A. Reese,
Deputy Secretary.

[FR Doc. 2023-04850 Filed 3-8-23; 8:45 am]

BILLING CODE 6717-01-P